INTERNATIONAL TRADE COMMISSION

[USITC SE-14-004]

Sunshine Act Meetings

AGENCY HOLDING THE MEETING: United States International Trade Commission.

TIME AND DATE: February 14, 2014 at 11 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-511 and 731-TA-1246-1247 (Preliminary) (Certain Crystalline Silicon Photovoltaic Products from China and Taiwan). The Commission is currently scheduled to complete and file its determinations on February 14, 2014; views of the Commission are currently scheduled to be filed on February 24, 2014.

5. Outstanding action jackets: none

In accordance with Commission policy, subject matter listed above, not disposed of at the scheduled meeting, may be carried over to the agenda of the following meeting.

By order of the Commission.
Dated: February 5, 2014.
William R. Bishop,
Supervisory Hearings and Information Officer.

[FR Doc. 2014-02749 Filed 2-5-14; 11:15 am]

BILLING CODE 7020-02-P